DEPARTMENT OF DEFENSE

Office of the Secretary

[Docket ID: DOD-2018-OS-0037]

Submission for OMB Review; Comment Request

AGENCY: Under Secretary of Defense for Acquisition and Sustainment, DoD.

ACTION: 30-Day information collection notice.

SUMMARY: The Department of Defense has submitted to OMB for clearance the following proposal for collection of information under the provisions of the Paperwork Reduction Act.

DATES: Consideration will be given to all comments received by September 28, 2018.

ADDRESSES: Comments and recommendations on the proposed information collection should be emailed to Ms. Jasmeet Seehra, DoD Desk Officer, at oira_submission@omb.eop.gov. Please identify the proposed information collection by DoD Desk Officer, Docket ID number, and title of the information collection.

FOR FURTHER INFORMATION CONTACT: Fred Licari, 571-372-0493, or whs.mc-alex.esd.mbx.dd-dod-information-collections@mail.mil.

SUPPLEMENTARY INFORMATION:

Title; Associated Form; and OMB Number: Defense Materiel Disposition Procedures for the Sale of DoD Materiel; DRMS 1645, DRMS 2006, and SF 114-A; OMB Control Number 0704-0534.

Type of Request: Extension.

Number of Respondents: 72.

Responses per Respondent: 2.63.

Annual Responses: 189.

Average Burden per Response: 1.23 hours.

Annual Burden Hours: 231.75.

Needs and Uses: This collection allows the Department of Defense (DoD) and its representatives to assess the ability of prospective purchasers to comply with applicable laws and regulations before the sale of materiel. Defense Reutilization and Marketing Service (DRMS) Form 1645, “Statement of Intent,” and Standard Form (SF) 114A, “Sale of Government Property—Item Bid Page—Sealed Bid,” are used to identify the nature of the purchaser's business, where the materials will be stored, and what the buyer's intentions are with the materiel (i.e., use the materiel as intended, re-sell to others, scrap the materiel for recovery of contents, or re-refine or re-process the materiel). These forms are used to determine if DRMS Form 2006, “Pre-Award/Post-Award On-Site Review,” will also be needed; DRMS Form 2006 allows DoD components to determine if the purchaser is capable of meeting environmental and hazardous material handling responsibilities, in compliance with CFR part 102 of Title 41. Compliance with this regulation must be ascertained before DoD components may make an award of hazardous and dangerous property.

Affected Public: Business or other for-profit.

Frequency: On occasion.

Respondent's Obligation: Voluntary.

OMB Desk Officer: Ms. Jasmeet Seehra.

You may also submit comments and recommendations, identified by Docket ID number and title, by the following method: Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Frederick Licari.

Requests for copies of the information collection proposal should be sent to Mr. Licari at whs.mc-alex.esd.mbx.dd-dod-information-collections@mail.mil.

Aaron T. Siegel,
Alternate OSD Federal Register Liaison Officer, Department of Defense.

[FR Doc. 2018-18746 Filed 8-28-18; 8:45 am]

BILLING CODE 5001-06-P